DEPARTMENT OF TRANSPORTATION

Surface Transportation Board

[STB Finance Docket No. 34326]

R.J. Corman Railroad Company/Central Kentucky Lines—Lease and Operation Exemption—Line of R.J. Corman Equipment Company, LLC

R.J. Corman Railroad Company/Central Kentucky Lines (RJCC), a noncarrier, has filed a verified notice of exemption under 49 CFR 1150.31 to lease and operate approximately 14.9 miles of rail line from R.J. Corman Equipment Company, LLC (RJCE) between approximately milepost 23.9 LL in Lexington, KY, and approximately 9.0 LL in Versailles, KY, in Fayette and Woodford Counties, KY. RJCC certifies that the projected revenues as a result of this transaction will not result in the creation of a Class I or Class II rail carrier.

RJCC reported that the parties intended to consummate the transaction on or soon after March 28, 2003, the effective date of the exemption (7 days after the exemption was filed).

This transaction is related to two simultaneously filed notices of exemption: STB Finance Docket No. 34325, R.J. Corman Equipment, LLC—Acquisition Exemption—Line of Lexington & Ohio Railroad Co., Inc., wherein RJCE seeks to acquire the same 14.9 miles of rail line involved in the instant notice from Lexington & Ohio Railroad Co., Inc.; and STB Finance Docket No. 34327, R.J. Corman—Continuance in Control Exemption—R.J. Corman Railroad Company/Central Kentucky Lines, wherein Richard J. Corman seeks to continue in control of RJCC upon RJCC's becoming a Class III rail carrier pursuant to this notice.

If the notice contains false or misleading information, the exemption is void ab initio. Petitions to revoke the exemption under 49 U.S.C. 10502(d) may be filed at any time. The filing of a petition to revoke will not automatically stay the transaction.

An original and 10 copies of all pleadings, referring to STB Finance Docket No. 34326, must be filed with the Surface Transportation Board, 1925 K Street, NW., Washington, DC 20423-0001. In addition, one copy of each pleading must be served on Edward J. Fishman, Kirkpatrick & Lockhart LLP, 1800 Massachusetts Avenue—2nd Floor, Washington, DC 20036.

Board decisions and notices are available on our Web site at http://www.stb.dot.gov.

Decided: April 4, 2003.
By the Board, David M. Konschnik, Director, Office of Proceedings.
Vernon A. Williams,
Secretary.

[FR Doc. 03-8927 Filed 4-11-03; 8:45 am]

BILLING CODE 4915-00-P